ENVIRONMENTAL PROTECTION AGENCY

40 CFR Part 52

[RO4-OAR-2005-TN-0006-200519(a); FRL-7990-3]

Approval and Promulgation of Implementation Plans; Tennessee: Nashville Area Second 10-Year Maintenance Plan for the 1-Hour Ozone National Ambient Air Quality Standard

AGENCY: Environmental Protection Agency (EPA).

ACTION: Direct final rule.

SUMMARY: The EPA is approving a revision to the Tennessee State Implementation Plan (SIP) submitted in final form on August 10, 2005. The SIP revision provides the second 10-year maintenance plan for the Nashville (Middle Tennessee) 1-hour ozone maintenance area (Nashville Area), which is composed of the following five counties: Davidson, Rutherford, Sumner, Williamson, and Wilson. The Nashville Area is still required to fulfill obligations under the 1-hour ozone national ambient air quality standard (NAAQS), because EPA has deferred the effective date of the designation for the Nashville Area under the newer 8-hour ozone NAAQS due to participation in an Early Action Compact. EPA is approving this SIP revision because it satisfies the requirement of the Clean Air Act (CAA) for the second 10-year maintenance plan for the Nashville Area.

In addition, in this rulemaking, EPA is providing information on its transportation conformity adequacy determination for new motor vehicle emission budgets (MVEBs) for the year 2016 that are contained in the second 10-year 1-hour ozone maintenance plan for the Nashville Area. EPA determined that the 2016 MVEBs are adequate through a previous action. EPA is also approving the 2016 MVEBs in this action.

DATES: This direct final rule is effective January 3, 2006, without further notice, unless EPA receives adverse comment by December 1, 2005. If adverse comment is received, EPA will publish a timely withdrawal of the direct final rule in the Federal Register and inform the public that the rule will not take effect.

ADDRESSES: Submit your comments, identified by Regional Material in EDocket (RME) ID No. “RO4-OAR-2005-TN-0006-200519” by one of the following methods:

1. Federal eRulemaking Portal: http://www.regulations.gov. Follow the on-line instruction for submitting comments.

2. Agency Web site: http://docket.epa.gov/rmepub/RME, EPA's electronic public docket and comment system is EPA's preferred method for receiving comments. Once in the system, select “quick search,” then key in the appropriate RME Docket identification number. Follow the on-line instructions for submitting comments:

3. E-mail: hoffman.annemarie@epa.gov.

4. Fax: (404) 562-9019.

5. Mail: “RO4-OAR-2005-TN-0006” Regulatory Development Section, Air Planning Branch, Air Pesticides and Toxics Management Division, U.S. Environmental Protection Agency, Region 4, 61 Forsyth Street, SW., Atlanta, Georgia 30303-8960.

6. Hand Delivery or Courier, Deliver your comments to Anne Marie Hoffman, Regulatory Development Section, Air Planning Branch, Air, Pesticides and Toxics Management Division, U.S. Environmental Protection Agency, Region 4, 61 Forsyth Street, SW., Atlanta, Georgia 30303-8960, such deliveries are only accepted during the Regional Office's normal hours of operation. The Regional office's official hours of business are Monday through Friday, 8:30 to 4:30, excluding federal holidays.

Instructions: Direct your comments to RME ID No. “RO4-OAR-2005-TN-0006.” EPA's policy is that all comments received will be included in the public docket without change and may be made available online at http://docket.epa.gov/rmepub, including any personal information provided, unless the comment includes information claimed to be Confidential Business Information (CBI) or other information whose disclosure is restricted by statute. Do not submit information that you consider to be CBI or otherwise protected through RME, regulations.gov, or e-mail. The EPA RME website and the federal regulations.gov website are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://docket.epa.gov/rmepub. Although listed in the index, some information is not publicly available, i.e., CBI or other information whose disclosure is restricted by statute. Certain other material, such as copyrighted material, is not placed on the Internet and will be publicly available only in hard copy form. Publicly available docket material are available either electronically in RME or in hard copy at the Regulatory Development Section, Air Planning Branch, Air, Pesticides and Toxics Management Division, U.S. Environmental Protection Agency Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Anne Marie Hoffman, Regulatory Development Section, Air Planning Branch, Air, Pesticides and Toxics Management Division, U.S. Environmental Protection Agency, Region 4, 61 Forsyth Street, SW., Atlanta, Georgia, 30303-8960, Phone (404) 562-9074. E-mail: hoffman.annemarie@epa.gov.

SUPPLEMENTARY INFORMATION:

Table of Contents

I. What Is the Background for This Action?

II. What Is EPA's Analysis of the Nashville Area's Second 10-Year Maintenance Plan?

III. What Is EPA's Action on the Nashville Area's Second 10-Year Maintenance Plan?

IV. What Is an Adequacy Determination and What Is EPA's Adequacy Determination for the Nashville Area's New MVEBs for the Year 2016?

V. Statutory and Executive Order Reviews

I. What Is the Background for This Action?

In 1996, based on measured air quality data, the Nashville Area was able to demonstrate attainment with the 1-hour ozone National Ambient Air Quality Standard (NAAQS) due to numerous control measures implemented in the Nashville Area. As a result of the measured air quality data, Tennessee petitioned EPA for redesignation. In 1996, EPA redesignated the Nashville Area to attainment based on the measured air quality data and a 10-year maintenance plan submitted for the Nashville Area. The air quality maintenance plan is a requirement of the 1990 CAA amendments for nonattainment areas that come into compliance with the NAAQS to assure their continued maintenance of that standard. Eight years after redesignation to attainment, section 175A(b) of the CAA requires the state to submit a revised maintenance plan which demonstrates that attainment will continue to be maintained for the ten years following the initial ten-year period (this is known as the second 10-year plan). The second 10-year plan updates the original 10-year 1-hour ozone maintenance plan for the next 10-year period. The maintenance plan sets out the steps the area would take to maintain attainment with the 1-hour ozone NAAQS. Tennessee was required to submit the second 10-year plan for the Nashville Area demonstrating that it would continue to attain the 1-hour ozone NAAQS through 2016.

The Nashville Area is still required to fulfill requirements under the 1-hour ozone NAAQS due to its participation in an Early Action Compact (EAC). The effective date of the revocation of the 1-hour ozone NAAQS is one year after the effective date of the designations for the 8-hour ozone standard as explained in EPA's April 30, 2004, final rule (69 FR 23951). For areas participating in an EAC, the effective date for designations for the 8-hour ozone NAAQS was deferred until December 31, 2006, in a final action published by EPA on August 29, 2005 (70 FR 50988). Therefore, the 1-hour ozone NAAQS is not yet revoked for the Nashville Area and other areas participating in an EAC, because the effective date for designations for the 8-hour ozone NAAQS in EAC areas has been deferred. For more information, please see EPA's Web site on EACs at: http://www.epa.gov/air/eac/index.html.

The original 10-year maintenance plan for the Nashville Area established MVEBs for the year 2006. The 2006 MVEBs are 53.17 tons per day (tpd) for volatile organic compounds (VOC) and 96.60 tpd for nitrogen oxides (NOX). These MVEBs are currently being used by the transportation partners to demonstrate transportation conformity. Additionally, through this rulemaking, EPA is providing information on the status of its transportation conformity adequacy determination for new MVEBs for the year 2016 that are contained in the second 10-year plan for the Nashville Area. The adequacy comment period for the 2016 MVEBs began on June 9, 2005, with EPA's posting of the availability of this submittal on EPA's Adequacy Web site (at http://www.epa.gov/otaq/transp/conform/adequacy.htm). The adequacy comment period for these MVEBs closed on July 11, 2005. No request for, or adverse comments on this submittal were received during EPA's adequacy comment period. EPA determined that the 2016 MVEBs are adequate through a separate action on September 16, 2005, (70 FR 2005). Please see section IV of this rulemaking for further explanation of this process.

II. What Is EPA's Analysis of the Nashville Area's Second 10-Year Maintenance Plan?

On August 10, 2005, the State of Tennessee, through the Tennessee Department of Environment and Conservation (TDEC), submitted a SIP revision to EPA that provided for the second 10-year plan for the Nashville Area as required by section 175A(b) of the CAA. This second 10-year plan for the Nashville Area includes a new ozone precursor emission inventory for 2002 for the Nashville Area which reflects emission controls applicable for the Nashville Area, and actual and projected emissions for 2002, 2006, 2009, 2012 and 2016. The SIP revision also establishes new MVEBs for 2016 for the Nashville Area.

The emission reduction measures for ozone precursor emissions implemented in the Nashville Area from 1996 to 2006, and measures that are projected to occur between 2006 and 2016, are accounted for in the 2002 emission inventory and projected emissions estimates. The following two tables provide emissions data and projections, calculated using MOBILE6.2, for the ozone precursors, VOC and NOX.

Table 1.—Nashville 1-Hour Ozone Area
[Emission inventory and projected VOC emissions (2002-2016)]
| Area | Non-road mobile | On-road mobile | Point | Total | Safety margin based on 2002 emissions
2002 | 80.63 | 27.53 | 51.21 | 19.97 | 179.34 | n/a
2006 | 85.56 | 24.01 | 37.28 | 13.05 | 159.90 | 19.44
2009 | 89.03 | 20.30 | 31.03 | 14.02 | 154.38 | 24.96
2012 | 92.75 | 18.45 | 24.91 | 15.09 | 151.20 | 28.14
2016 | 98.87 | 16.77 | 19.18 | 17.02 | 151.84 | 27.50

Table 2.—Nashville 1-Hour Ozone Area
[Emission inventory and projected NOX emissions (2002-2016)]
| Area | Non-road mobile | On-road mobile | Point | Total | Safety margin based on 2002 emissions
2002 | 21.13 | 47.85 | 136.00 | 53.29 | 258.27 | n/a
2006 | 23.48 | 44.74 | 97.89 | 61.01 | 227.11 | 31.15
2009 | 24.45 | 41.18 | 77.65 | 61.57 | 204.85 | 53.42
2012 | 25.69 | 37.71 | 56.02 | 64.21 | 183.63 | 74.64
2016 | 26.53 | 32.97 | 36.01 | 65.21 | 160.72 | 97.55

The attainment level of emissions is the level of emissions during one of the years in which the area met the NAAQS. The Nashville Area attained the 1-hour ozone NAAQS based on air quality data for the 2000-2002 time period. Therefore, in this SIP revision, the emissions from the year 2002 are used to calculate a new attainment emissions level for the Nashville Area. The emissions from point, area, nonroad, and mobile sources in 2002 equal 179.34 tpd of VOC for the entire Nashville Area. Projected VOC emissions to the year 2016 equal 151.84 tpd of VOC.

The safety margin is the difference between the attainment level of emissions (from all sources) and the projected level of emissions (from all sources) in the maintenance plan. The safety margin is for the entire Nashville Area and is not sub-allocated by county. The safety margin credit, or a portion thereof, can be allocated to the transportation sector, however, the total emission level must stay below the attainment level. The safety margin for VOC is the difference between these amounts or, in this case, 27.50 tpd for 2016. By this same method, 97.55 tpd (258.27 tpd less 160.72 tpd) is the safety margin for NOX for 2016. The emissions are projected to maintain the Nashville Area's air quality consistent with the NAAQS.

Maintenance plans and other control strategy SIPs create MVEBs for criteria pollutants and/or their precursors to address pollution from cars and trucks. The MVEB is the portion of the total allowable emissions that is allocated to highway and transit vehicle use and emissions. The MVEB serves as a ceiling on emissions from an area's planned transportation system. In this SIP revision, the Nashville Area used MOBILE6.2 to establish MVEBs for VOC and NOX for the year 2016. In a previous action on September 16, 2005, (70 FR 54738) EPA determined that the new 2016 MVEBs are adequate for the Nashville Area. These MVEBs are listed in Tables 3.1 and 3.2.

Table 3.1.—2016 MVEB With Safety Margin Included
| 2016 safety margin | 10% of safety margin | 2016 estimated on-road mobile emissions | 2016 MVEB with safety margin
VOC | 27.50 | 2.75 | 19.18 | 21.93
NOX | 97.54 | 9.75 | 36.01 | 45.76

The MVEBs presented in Table 3.2 are directly reflective of the combined onroad (or “highway”) emissions for the Nashville Area for VOC and NOX, plus allocation from the available safety margin. In summary, the MVEBs for the Nashville Area that the transportation partners must use are provided in the table below.

Table 3.2.—2006 and 2016 MVEBs
| 2006 | 2016
VOC | 53.17 | 21.93
NOX | 96.60 | 45.76

III. What Is EPA's Action on the Nashville Area's Second 10-Year Maintenance Plan?

EPA is approving Tennessee's SIP revision pertaining to the Nashville Area's second 10-year plan, including the new 2016 MVEBs for VOC and NOX.

IV. What Is an Adequacy Determination and What Is EPA's Adequacy Determination for the Nashville Area's New MVEB for the Year 2016?

At various times under the CAA, states are required to submit control strategy SIP revisions and maintenance plans for ozone areas. These control strategy SIP submittals (e.g., reasonable further progress SIP submittals and attainment demonstration SIP submittals) and maintenance plans create MVEBs for criteria pollutants and/or their precursors to address pollution from cars and trucks. Per 40 CFR part 93, a MVEB is established for the last year of the maintenance plan. The MVEB is the portion of the total allowable emissions in the maintenance plan that is allocated to highway and transit vehicle use and emissions. The MVEB serves as a ceiling on emissions from an area's planned transportation system. The MVEB concept is further explained in the preamble to the November 24, 1993, transportation conformity rule (58 FR 62188). The preamble also describes how to establish and revise MVEBs in the SIP.

Under section 176(c) of the CAA, new transportation projects, such as the construction of new highways, must “conform” to (e.g. be consistent with) the part of the State's air quality plan that addresses pollution from cars and trucks. “Conformity” to the SIP means that transportation activities will not cause new air quality violations, worsen existing violations, or delay timely attainment of the NAAQS. Under the transportation conformity rule, at 40 CFR part 93, projected emissions from transportation plans and programs must be equal to or less than MVEBs for the area. If a transportation plan does not “conform,” most new projects that would expand the capacity of roadways cannot go forward. Regulations at 40 CFR part 93 set forth EPA policy, criteria and procedures for demonstrating and assuring conformity of such transportation activities to a SIP.

Until MVEBs in a SIP submittal are approved by EPA, they cannot be used for transportation conformity purposes unless EPA makes an affirmative finding that MVEBs contained therein are “adequate.” Once EPA affirmatively finds the submitted MVEBs adequate for transportation conformity purposes, those MVEBs can be used by the State and Federal agencies in determining whether proposed transportation projects “conform” to the SIP even though the approval of the SIP revision containing those MVEBs has not yet been finalized. EPA's substantive criteria for determining “adequacy” of MVEBs in submitted SIPs are set out in EPA's Transportation Conformity Rule at 40 CFR 93.118(e)(4).

In a letter dated August 16, 2005, to Barry Stephens, Director of the Air Pollution Control Division of TDEC, EPA informed the State of its intention to find the new 2016 MVEBs adequate for transportation conformity purposes. Subsequently, in a Final Federal Register notice dated September 16, 2005, (70 FR 54738) EPA found the Nashville Area's 2016 MVEBs adequate. These MVEBs meet the adequacy criteria contained in the Transportation Conformity Rule. Both the 2006 and 2016 MVEBs for the Nashville Area are currently being used for transportation conformity determinations. For transportation plan analysis years that involve the year 2015 or before, the applicable budget for the purposes of conducting transportation conformity analysis will be the 2006 MVEBs for VOC of 53.17 tpd and for NOX of 96.60 tpd for the Nashville Area. For transportation plan analysis years that involve the year 2016 or beyond, the applicable budget for the purposes of conducting transportation conformity analysis will be the 2016 MVEB for VOC of 19.18 tpd and for NOX of 36.01 tpd for the Nashville Area.

V. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the states, on the relationship between the national government and the states, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 3, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).

List of Subjects in 40 CFR Part 52

Environmental protection, Air pollution control, Intergovernmental relations, Nitrogen dioxide, Ozone, Volatile organic compounds.

Dated: October 17, 2005.
A. Stanley Meiburg,
Acting Regional Administrator, Region 4.

40 CFR part 52 is amended as follows:

PART 52—[AMENDED]

1. The authority citation for part 52 continues to read as follows:

Authority: 42 U.S.C. 7401 et seq.

Subpart RR—Tennessee

2. Section 52.2220(e) is amended by adding a new entry at the end of the table for “Nashville 1-Hour Ozone Second 10-Year Maintenance Plan” to read as follows:

§ 52.2220 Identification of plan.

(e) * * *

EPA Approved Tennessee Non-Regulatory Provisions
Name of nonregulatory SIP provision | Applicable geographic or nonattainment area | State effective date | EPA approval date | Explanation
* * * * * * *
Nashville 1-Hour Ozone Second 10-Year Maintenance Plan | Nashville | August 10, 2005 | November 1, 2005 [Insert first page of publication]. |

[FR Doc. 05-21528 Filed 10-31-05; 8:45 am]

BILLING CODE 6560-50-P